DEPARTMENT OF THE INTERIOR

National Park Service

Draft Environmental Impact Statement General Management Plan; Santa Monica Mountains National Recreation Area; Notice of Extension of Public Comment Period

SUMMARY: Pursuant to § 102(2)(C) of the National Environmental Policy Act of 1969 (P.L. 91-190 as amended), the National Park Service, Department of the Interior, has prepared a Draft Environmental Impact Statement assessing potential impacts of alternative approaches for future management of the Santa Monica Mountains National Recreation Area, in southern California. The original 60-day public comment period has been extended an additional month from the original February 28, 2001 deadline.

SUPPLEMENTARY INFORMATION: Interested individuals, organizations, and agencies are encouraged to provide written comments—to be considered any response must now be postmarked no later than May 31, 2000.

All responses should be addressed to the Superintendent, Santa Monica Mountains National Recreation Area, 401 West Hillcrest Dr., Thousand Oaks, California 91360-4207. If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

To obtain a copy of the DEIS please contact the park at (805) 370-2341. Five public meetings will be held in the area during February 5-9, 2001; full details are available by phone or via the internet at www.nps.gov/samo.

Dated: January 23, 2001.
William C. Walters,
Deputy Regional Director, Pacific West Region.

[FR Doc. 01-4008 Filed 2-15-01; 8:45 am]

BILLING CODE 4310-70-P